FEDERAL COMMUNICATIONS COMMISSION

[OMB 3060-XXXX; FR ID 288275]

Information Collection Being Reviewed by the Federal Communications Commission

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before June 6, 2025. If you anticipate that you will be submitting comments but find it difficult to do so within the time period allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION:

OMB Control Number: 3060-XXXX.

Title: Sections 88.27, 88.31, 88.33, 88.35, 88.135, 88.137, 88.141; Uncrewed Aircraft Communications in the 5030-5091 MHz band.

Form Number: N/A.

Type of Review: New information collection.

Respondents: Business or other for-profit entities, not-for-profit institutions, and state, local or tribal governments.

Estimated Number of Respondents and Responses: 436 respondents and 8,326 responses.

Estimated Time per Response: .25 hours to 10 hours.

Frequency of Response: One-time and on occasion reporting requirements, as-needed reporting requirements; recordkeeping requirement and third party disclosure requirement.

Obligation to Respond: Required to obtain or retain benefits. Statutory authority for this information collection is contained in 47 U.S.C. 151, 154, 301, 303, 307, and 310.

Estimated Total Annual Burden: 4,219 hours.

Total Annual Costs: $3,000.

Needs and Uses: On August 21, 2024, the Federal Communications Commission (“Commission” or “FCC”) adopted a Report and Order, Spectrum Rules and Policies for the Operation of Unmanned Aircraft Systems, FCC 24-91, in WT Docket No. 22-323 (Report and Order), establishing rules for Non-networked Access (NNA) in the Uncrewed Aircraft System Services (UASS), to enable uncrewed aircraft systems (UAS) operators to obtain direct frequency assignments in a portion of the 5030-5091 MHz band for protected wireless communications between UAS operators on the ground and uncrewed aircraft (UA) for flight control and telemetry. Under the new rules, incorporated in a new rule part, part 88, operators' use of the spectrum designated for NNA (the 5040-5060 MHz portion of the 5030-5091 MHz band) will be authorized and coordinated by one or more dynamic frequency management systems (DFMSs). UAS operators must register with a Commission-approved DFMS, and then may request short-term frequency assignments in the NNA spectrum from the DFMS. UAS operators may transmit in the NNA spectrum only using rule-compliant NNA stations and only pursuant to and consistent with the terms of a frequency assignment from a DFMS.

The following is a description of information collection requirements for which the Commission seeks OMB approval:

Under Section 88.27(c) and 88.135(a) and (b), all NNA users are required to register once with a DFMS in order to submit requests to that DFMS for a short term assignment of frequencies that authorize the user to transmit in the NNA spectrum, with registrations including a party's legal name and contact information, and any other information required by the DFMS.

Under section 88.31(a), following registration, the NNA user may submit a request to the DFMS for a temporary frequency assignment to support UAS control communications, limited to the duration and geographic coverage necessary to support a single submitted UAS flight. Section 88.135(h) requires that, for each frequency assignment request, the NNA user must certify that it has flight authorization from the Federal Aviation Administration (FAA) to cover the flight associated with the frequency assignment request, and that any remote pilots that will be involved in the flight have all necessary FAA remote pilot authorization, to the extent such authorization is required.

Section 88.31(c) requires that the NNA user must comply with all DFMS Administrator instructions, including those regarding registration process and procedures, requests and other submissions to the DFMS.

Section 88.31(e) requires a UAS ground station using an NNA assignment or proxy software acting on its behalf must be capable of communicating with the assigning DFMS to communicate specified confirmations and status information.

Section 88.33(a) requires that information submitted to a DFMS with registration or assignment requests must be accurate, complete, and made in good faith, and section 88.33(b) provides that parties must keep registration information up to date, and must keep frequency assignment request information up to date until the scheduled time of the operation.

Sections 88.31(d) and 88.35 require that parties seeking assignments in the National Radio Quiet Zone (NRQZ) must first notify the NRQZ Administrator, unless an exception applies, and otherwise follow certain submission requirements in filing their assignment requests.

Section 88.135(p) requires a DFMS to retain information on exclusion zones sufficient to protect Microwave Landing Systems in the 5030-5091 MHz band.

Section 88.135(q) requires a DFMS to maintain all records for at least 60 months.

Section 88.135(x) requires a DFMS to immediately notify the National Science Foundation when a request for frequency assignment is approved that will support operation of a UAS within 25 miles of one of sixteen specified radio astronomy sites.

Section 88.137(d) requires a DFMS administrator to securely transfer all information in the DFMS to another approved entity in the event it does not continue as the DFMS administrator at the end of its term.

Protective DFMS administrators must apply to, and be approved by, the Commission prior to commencing operation of the DFMS.

Sections 88.35(b) and 88.141(b) establish an Interim Access Mechanism, under which NNA users may access the 5040-5060 MHz band prior to the commencement of operation by the first DFMS administrator. As part of this mechanism, NNA users seeking to transmit in the band must first obtain concurrence from the Federal Aviation Administration for the requested use, and then submit to the FCC an online registration form making certain certifications. When a request for concurrence is submitted to the FAA for operations within the NRQZ, the request must state the date that notification to the NRQZ Administrator was made or provide an approval from the NRQZ Administrator.

These information collection requirements are designed to enable the implementation of the rules for NNA operations, including the establishment and operation of the automated process of frequency assignments through DFMSs. These direct frequency assignments will support highly reliable control links, and thereby help to safely integrate UAS flights into the National Airspace System (NAS) and promote the development of a diverse range of beneficial public and private uses of UAS technology. Without the required collections, the Commission would not be able to make this spectrum available for dynamic, short term assignments to support this important purpose.

Federal Communications Commission.
Marlene Dortch,
Secretary.

[FR Doc. 2025-05872 Filed 4-4-25; 8:45 am]

BILLING CODE 6712-01-P